FEDERAL ACCOUNTING STANDARDS ADVISORY BOARD

Notice of 2025 Federal Accounting Standards Advisory Board Meetings

AGENCY: Federal Accounting Standards Advisory Board.

ACTION: Notice.

SUMMARY: Notice is hereby given that the Federal Accounting Standards Advisory Board (FASAB) will hold its meetings on the following dates throughout 2025, unless otherwise noted.

DATES:

February 25-26, 2025

April 22-23, 2025

June 17-18, 2025

August 19-20, 2025

October 21-22, 2025

December 9-10, 2025

ADDRESSES: Agendas, briefing materials, and virtual meeting information will be available at https://www.fasab.gov/briefing-materials/ approximately one week before each meeting.

Any interested person may attend the meetings as an observer. Board discussion and reviews are open to the public. GAO building security requires advance notice of your attendance for in-person meetings. If you wish to attend a FASAB meeting that is being held in-person, please register on our website at https://www.fasab.gov/pre-registration/ no later than 5 p.m. the Thursday before the meeting to be observed.

FOR FURTHER INFORMATION CONTACT: Ms. Monica R. Valentine, Executive Director, 441 G Street NW, Suite 1155, Washington, DC 20548, or call (202) 512-7350.

SUPPLEMENTARY INFORMATION: The purpose of the meetings is to discuss issues related to the following topics:

Accounting and Reporting of Government Land

Climate-Related Financial Reporting

Commitments

Direct Loans and Loan Guarantees

Federal GAAP Hierarchy

Intangible Assets

Leases

Omnibus Amendments

Public-Private Partnerships

Reexamination of Existing Standards

Omnibus Concepts Amendments

Management's Discussion and Analysis

Revenue

Software Technology

Appointments Panel

Any other topics as needed

Notice is hereby given that a portion of each scheduled meeting may be closed to the public. The Appointments Panel, a chartered subcommittee of FASAB that makes recommendations regarding appointments for non-Federal member positions, is expected to meet during each meeting. A portion of each Appointments Panel meeting will be closed to the public. The reason for the closures is that matters covered by 5 U.S.C. 552b(c)(2) and (6) will be discussed. Any such discussions will involve matters that relate solely to internal personnel rules and practices of the sponsor agencies and the disclosure of information of a personal nature where disclosure would constitute a clearly unwarranted invasion of personal privacy. Such discussions will be segregated into separate discussions so that a portion of each meeting will be open to the public.

Pursuant to section 10(d) of the Federal Advisory Committee Act (FACA), 5 U.S.C. 1009(d), portions of advisory committee meetings may be closed to the public where the head of the agency to which the advisory committee reports determines that such portion of such meeting may be closed to the public in accordance with subsection (c) of section 552b of title 5, United States Code. The determination shall be in writing and shall contain the reasons for the determination. A determination has been made in writing by the U.S. Government Accountability Office, the U.S. Department of the Treasury, and the Office of Management and Budget, as required by section 10(d) of FACA, that such portions of the meetings may be closed to the public in accordance with subsection (c) of section 552b of title 5, United States Code.

Unless otherwise noted, FASAB meetings begin at 9 a.m. and conclude before 5 p.m. Meetings are either in-person at the U.S. Government Accountability Office (GAO) building at 441 G St. NW or virtual. Unless otherwise noted, the February and June meetings are virtual, and the April, August, October, and December meetings are in-person. Regardless of whether the Board meeting is virtual or in-person, you may observe the meeting virtually.

Authority: 31 U.S.C. 3511(d); Federal Advisory Committee Act, 5 U.S.C. 1001-1014.

Dated: December 4, 2024.
Monica R. Valentine,
Executive Director.

[FR Doc. 2024-28863 Filed 12-6-24; 8:45 am]

BILLING CODE 1610-02-P